DEPARTMENT OF AGRICULTURE

Natural Resources Conservation Service

Changes in Hydric Soils of the United States

AGENCY: Natural Resources Conservation Service, USDA.

ACTION: Notice of change.

SUMMARY: Pursuant to 7 CFR 12.30(a)(4), The Natural Resources Conservation Service, United States Department of Agriculture gives notice of a change in the wording of the criteria used to generate the list of hydric soils of the United States as published in the third edition of Hydric Soils of the United States, Miscellaneous Publication 1491, U.S. Department of Agriculture, Soil Conservation Service, June 1991.

FOR FURTHER INFORMATION CONTACT: Karl W. Hipple, Chair, National Technical Committee for Hydric Soils, National Soil Survey Center, NRCS, Room 152, Mail Stop 36, Federal Building, 100 Centennial Mall North, Lincoln, Nebraska 68508-3866, Telephone (402) 437-5351.

SUPPLEMENTARY INFORMATION: The wording of criteria 1 and 2 has been changed to incorporate recent changes in Soil Taxonomy.

Criteria for Hydric Soils

1. All Histels except Folistels, and all Histosols except Folists, or

2. Soils in Aquic suborders, great groups, or subgroups; Albolls suborder; Historthels and Histoturbels great groups; and Cumulic or Pachic subgroups that are:

a. Somewhat poorly drained with a water table equal to 0.0 foot (ft) from the surface during the growing season, or

b. poorly drained or very poorly drained and have either:

(1) Water table equal to 0.0 ft from the surface during the growing season if textures are coarse sand, sand, or fine sand in all layers within 20 inches (in) of the surface, or for other soils,

(2) Water table at less than or equal to 0.5 ft from the surface during the growing season if permeability is equal to or greater than 6.0 in/hour (h) in all layers within 20 in of the surface, or

(3) Water table at less than or equal to 1.0 ft from the surface during the growing season, if permeability is less than 6.0 in/h in any layer within 20 in, or

3. Soils that are frequently ponded for long duration or very long duration during the growing season, or

4. Soils that are frequently flooded for long duration or very long duration during the growing season.

Signed in Washington, DC, on August 5, 2002.
Bruce I. Knight,
Chief.

[FR Doc. 02-23683 Filed 9-17-02; 8:45 am]

BILLING CODE 3410-16-P